SECURITIES AND EXCHANGE COMMISSION

[Rel. No. IC-26524]

First Western SBLC, Inc. [811-3782]; Western Financial Capital Corporation [811-3781]; PMC Investment Corporation [811-5036]; Notice of Application

August 3, 2004.

AGENCY: Securities and Exchange Commission (“Commission”).

Summary of Application: Each Applicant requests an order declaring that it has ceased to be an investment company.

Applicants: First Western SBLC, Inc., Western Financial Capital Corporation, and PMC Investment Corporation.

Filing Dates: The applications were filed on March 2, 2004, March 2, 2004, and March 3, 2004, respectively, and amended on August 2, 2004.

Hearing or Notification of Hearing: An order granting each application will be issued unless the Commission orders a hearing. Interested persons may request a hearing by writing to the Commission's Secretary and serving applicants with a copy of the request, personally or by mail. Hearing requests should be received by the Commission by 5:30 p.m. on August 27, 2004 and should be accompanied by proof of service on applicants, in the form of an affidavit or, for lawyers, a certificate of service. Hearing requests should state the nature of the writer's interest, the reason for the request, and the issues contested. Persons who wish to be notified of a hearing may request notification by writing to the Commission's Secretary.

ADDRESSES: Secretary, Commission, 450 Fifth Street, NW., Washington, DC 20549-0609. Applicants, 17950 Preston Rd., Suite 600, Dallas, Texas 75252.

FOR FURTHER INFORMATION CONTACT: Marilyn Mann, Senior Counsel, at (202) 942-0582, or Mary Kay Frech, Branch Chief, at (202) 942-0564 (Office of Investment Company Regulation, Division of Investment Management).

SUPPLEMENTARY INFORMATION: The following is a summary of the applications. The complete applications may be obtained for a fee at the Commission's Public Reference Branch, 450 Fifth Street NW., Washington, DC 20549-0102 (tel. 202-942-8090).

Applicants' Representations: 1. First Western SBLC, Inc. (“FW”) is a Florida corporation that is licensed as a small business lending company under the Small Business Investment Act of 1958 (the “SBIA”). FW originates variable-rate loans that are partially guaranteed by the Small Business Administration (the “SBA”) and which are generally secured with first liens on real and/or personal property of the borrower. Western Financial Capital Corporation (“WFCC”) is a Florida corporation that is licensed as a small business investment company under the SBIA. WFCC principally originates fixed rate secured loans to small businesses and funds its lending operations by issuing fixed rate, long-term debentures, which are guaranteed and sold by the SBA. PMC Investment Corporation (“PMCIC”) is a Florida corporation that is licensed as a specialized small business investment company under the SBIA. PMCIC uses long-term funds provided by the SBA through the issuance of debentures, together with its own capital, to provide long-term collateralized loans to eligible small businesses owned by disadvantaged persons. PMCIC funds its lending operations by issuing fixed-rate, long-term subordinated debentures, which are guaranteed and sold by the SBA. PMCIC also funds its operations by selling nonvoting preferred stock to the SBA. FW and WFCC filed Forms N-8A notifying the Commission of their registration under section 8(a) of the Act on June 24, 1983. PMCIC filed Form N-8A notifying the Commission of its registration under section 8(a) of the Act on February 23, 1987. FW, WFCC, and PMCIC are each registered under the Act as a closed-end management investment company.

2. Prior to February 29, 2004, FW, WFCC and PMCIC were subsidiaries of PMC Capital, Inc. (“PMC Capital”). PMC Capital, a Florida corporation, was a closed-end management investment company that elected to operate as a business development company under the Act. On February 29, 2004, PMC Capital merged with and into PMC Commercial Trust (“PMC Commercial”), a Texas real estate investment trust, with PMC Commercial continuing as the surviving entity.¹ FW, WFCC and PMCIC are now subsidiaries of PMC Commercial, which commenced operating the businesses of PMC Capital and its subsidiaries as of the date of the merger.

¹ See PMC Capital, Inc., Investment Company Act Release Nos. 26344 (Jan. 30, 2004) (notice) and 26358 (Feb. 25, 2004) (order).

Applicants' Legal Analysis: 1. Section 8(f) of the Act provides that whenever the Commission, upon application or its own motion, finds that a registered investment company has ceased to be an investment company, the Commission shall so declare by order and upon the taking effect of such order, the registration of such company shall cease to be in effect.

2. Section 3(c)(1) of the Act provides that any issuer whose outstanding securities (other than short-term paper) are beneficially owned by not more than one hundred persons, and which is not making and does not presently propose to make a public offering of its securities, is not an investment company within the meaning of the Act.

3. Applicants state that, under section 3(c)(1) of the Act, FW, WFCC, and PMCIC are not investment companies because PMC Commercial owns all of the outstanding securities of FW, and PMC Commercial and the SBA own all of the outstanding securities of WFCC and PMCIC, and the applicants do not presently propose to make a public offering of their securities.

4. Each applicant states that it is not a party to any litigation or administrative proceedings.

For the Commission, by the Division of Investment Management, under delegated authority.
Jill M. Peterson,
Assistant Secretary.

[FR Doc. 04-18186 Filed 8-9-04; 8:45 am]

BILLING CODE 8010-01-P